OFFICE OF THE UNITED STATES TRADE REPRESENTATIVE

Petition Under Section 302 on the U.S.-Israel Free Trade Agreement; Decision Not To Initiate Investigation

AGENCY: Office of the United States Trade Representative.

ACTION: Decision not to initiate investigation.

SUMMARY: On May 24, 2011, the Office of the United States Trade Representative (USTR) received a petition pursuant to section 302 of the Trade Act of 1974, as amended (“Trade Act”), requesting that the United States Trade Representative (“Trade Representative”) initiate an investigation under sections 301-309 of the Trade Act (“Section 301”) with respect to alleged conduct of the Government of Israel during the negotiation in the 1980s of the U.S.-Israel Free Trade Agreement (U.S.-Israel FTA). In accordance with the advice of the interagency Section 301 Committee, the Trade Representative has determined not to initiate an investigation in response to the petition.

DATES: Effective Date: July 8, 2011.

FOR FURTHER INFORMATION CONTACT: Jonathan Weinberger, Associate General Counsel, (202) 395-0317; Sonia Franceski, Director for Middle East Affairs, (202) 395-4620; or William Busis, Deputy Assistant USTR for Monitoring and Enforcement and Chair of the Section 301 Committee, (202) 395-3150.

SUPPLEMENTARY INFORMATION: On May 24, 2011, an organization entitled the “Institute for Research: Middle Eastern Policy” (“IRMEP”) filed a petition pursuant to section 302 of the Trade Act alleging that in 1984, during the negotiation of the U.S.-Israel FTA, the Government of Israel misappropriated business confidential information provided to USTR and the U.S. International Trade Commission by U.S. trade associations, companies, and industries. The petition alleges that the Government of Israel used this information to gain a systemic advantage in the U.S. market, and that this is the cause of the bilateral U.S. trade deficit with Israel. The petition further claims that the alleged misappropriation has diminished the profits of U.S. industry. The petition seeks a $6.64 billion settlement from the Government of Israel, to be divided among U.S. industry groups.

Upon the advice of the interagency Section 301 Committee, the Trade Representative has determined on two separate grounds not to initiate a Section 301 investigation in response to the petition. First, IRMEP—which describes itself as an organization involved in Middle East policy formation—lacks standing to file a petition addressed to an alleged loss of revenue by U.S. companies. The petition provides a diverse list of 76 corporations and industry associations that purportedly opposed the U.S.-Israel FTA in the mid-1980s, and the petition alleges that IRMEP represents “some” of those corporations and industry associations. USTR regulations, however, require that a petition affirmatively “identify the * * * firm or association * * * which petitioner represents and describe briefly the economic interest of the petitioner which is directly affected by” the matter addressed in the petition. 15 CFR 2006.1(a)(1). The petition fails to do so.

Second, the petition fails to allege the existence of any act, policy, or practice of the Government of Israel that might be actionable under Section 301. Rather, the petition is addressed to an alleged act by the Government of Israel that occurred over 27 years ago; the petition does not allege that any current acts, policies or practices of the Government of Israel are unjustifiable or unreasonable and burden or restrict U.S. commerce.

William Busis,
Chair, Section 301 Committee.

[FR Doc. 2011-17808 Filed 7-14-11; 8:45 am]

BILLING CODE 3190-W1-P